DEPARTMENT OF THE INTERIOR

National Park Service

Alcatraz Island Historic Preservation and Safety Construction Program, Final Environmental Impact Statement, Golden Gate National Recreation Area, San Francisco County, CA; Notice of Availability

SUMMARY: Pursuant to § 102(2)(C) of the National Environmental Policy Act of 1969 (Pub. L. 91-190, as amended), the National Park Service, Department of the Interior, announces the availability of the Final Environmental Impact Statement identifying and evaluating the environmental effects of the proposed historic preservation and safety construction program on Alcatraz Island, a site within the Golden Gate National Recreation Area (GGNRA).

SUPPLEMENTARY INFORMATION: The Final EIS presents and analyzes two “action” alternatives, the Proposed Action and the Reduced Project Alternative, and a “no-action” alternative. Based on principles of “101(b) of the National Environmental Policy Act, the Proposed Action is identified as the environmentally preferred alternative. The Proposed Action is a construction program designed to address serious public health and safety threats and stabilize important historic structures that contribute to the Island's National Historic Landmark Status. The Proposed Action includes ten individual repair projects that would require, in total, approximately 5 years to complete. The repairs include replacement of badly deteriorated piles supporting the dock, the only visitor access point to the Island, seismic retrofit of the Cellhouse, and repair/stabilization of other historic structures, some dating from the Civil War era, to provide for public safety and historic preservation. The projects would be implemented in two phases, Phase One (dock repair and Cellhouse seismic retrofit) and a Subsequent Phase. Using an adaptive management approach, Phase One projects would be implemented and monitored, and information gained through this monitoring will be used to refine and improve implementation for both ongoing and subsequent projects considered in the Final EIS to minimize potential impacts to wildlife. The use of mitigation measures during construction activity, such as staging and lighting restrictions and habitat restoration, would reduce potential impacts to biological resources. No changes in land use or long-term operation of the Island would occur as a result of the Proposed Action. The Proposed Action would not result in impairment of resources on Alcatraz Island.

The Reduced Project Alternative includes many of the safety and historic preservation actions identified under the Proposed Action. Implementation of mitigation measures during construction activity, as in the Proposed Action, would reduce impacts to biological resources. However, the repair and stabilization of three structures (the Water Tower, New Industries “Laundry” Building, and Quartermaster Building) located on the north end of the Island in or near a biologically sensitive area would be minimal. Over the long-term, this alternative would allow continued access to the Island and would meet human health and safety needs in areas currently open to the public. However, the loss of three important historic structures under this alternative would have an indirect effect on the interpretive and recreational values provided on the Island. In addition, the three structures are contributing features of the Alcatraz Island Historic Landmark District and without a more complete rehabilitation these structures will eventually fail. Loss of these cultural resources and others in the same area would cause the loss of the National Historic Landmark District status, which would be considered impairment of the cultural resource values on Alcatraz Island.

The No Action Alternative does not include any of the proposed construction or repair projects. Under this alternative only routine maintenance or other current repair projects would be implemented. As a result, potential construction related impacts to biological resources would be avoided. This alternative would continue the neglect of the Island's significant cultural resources resulting in deterioration of buildings and structures and the eventual loss of the Alcatraz Island Historic Landmark District status. Serious public health and safety threats would result in closure of individual buildings or areas, leading to the closure of the Island to visitors. The irreparable damage to the historic structures associated with this alternative and the eventual closure of the Island would constitute impairment of the cultural resource values and recreational use values, respectively, on Alcatraz Island.

Public Comment

During the scoping process leading to preparation of the Draft Environmental Impact Statement (DEIS), the National Park Service received comments from the individuals, groups, and agencies. NPS staff consulted with Native Americans who participated in the Indian Occupation of Alcatraz Island from 1969 through 1971 to obtain information about the cultural importance of the Indian Occupation. Scoping also included consultation with regulatory agencies, including the State Office of Historic Preservation, the United States Army Corps of Engineers, and the National Marine Fisheries Service. The information gathered was reviewed and used during the preparation of the DEIS.

The DEIS was available for public review from March 27, 2001 to June 11, 2001. The National Park Service (NPS) received 9 letters and verbal comments at the public meetings. Responses were submitted from five organizations, two from individuals, and two public agencies during the comment period. Comments include written letters and oral-testimony given during two meetings of the Advisory Commission for the Golden Gate National Recreation Area and Point Reyes National Seashore on March 27, 2001 and April 24, 2001. The public comments received regarding natural resources focused on the potential impacts to nesting waterbirds from construction activities particularly those associated with the New Industries “Laundry” Building and the Water Tower and the potential for phasing these projects. Concerns were also raised regarding implementation of the adaptive management program and the future of public input into the implementation process. Comments were also received supporting the Proposed Action noting that it would have a beneficial effect on cultural resources by providing for the stabilization of historic structures. The Environmental Protection Agency (EPA) supplied comments requesting that additional information be provided in the Final EIS on the removal of hazardous substances encountered during project activities. No comments were received from Native American Tribes or the United States Fish and Wildlife Service. Responses to public comments are addressed in the Final EIS.

Additionally, NPS staff consulted with regulating agencies concerning the rehabilitation of the dock. The National Marine Fisheries Service concurred with the DEIS determination that the proposed project along with mitigation measures would not likely adversely affect listed species or essential fish habitat. In addition, the NPS obtained authorization from the U.S. Army Corps of Engineers, a consistency determination from the San Francisco Bay Conservation and Development Commission, and authorization from the Regional Water Quality Control Board.

Copies

Printed copies of the Final EIS are available at park headquarters, Golden Gate National Recreation Area, Building 201, Fort Mason, San Francisco, 94123 or by calling (415) 561-4936. Public copies of the FEIS will be available for review as well as at libraries in the nine-county San Francisco Bay Area. The document can also be retrieved via internet at http://www.nps.gov/goga/admin/planning.

During the “no action” period following release of the Final EIS, if any individuals submit comments and request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision

A Record of Decision may be approved by the Regional Director, Pacific West Region, no sooner than 30 days after publication of a Notice of Availability of this Final EIS by the Environmental Protection Agency. The official responsible for the final decision is the Regional Director, Pacific West Region; subsequently the official responsible for implementation will be the Superintendent, Golden Gate National Recreation Area.

Dated: October 12, 2001.
Patricia L. Neubacher,
Acting Regional Director, Pacific West Region.

[FR Doc. 01-29094 Filed 11-20-01; 8:45 am]

BILLING CODE 4310-70-P